NUCLEAR REGULATORY COMMISSION

[Docket Nos. 50-247 and 50-286; NRC-2011-0278]

Entergy Nuclear Indian Point Unit 2, LLC; Entergy Nuclear Indian Point Unit 3, LLC; Entergy Nuclear Operations, Inc.; Indian Point Nuclear Generating Units Nos. 2 and 3; Environmental Assessment and Finding of No Significant Impact

The U.S. Nuclear Regulatory Commission (NRC) is considering issuance of an exemption from the requirements of Title 10 of the Code of Federal Regulations (10 CFR) part 50, Appendix R, “Fire Protection Program for Nuclear Power Facilities Operating Prior to January 1, 1979,” for Facility Operating License Nos. DPR-26 and DPR-64 issued to Entergy Nuclear Operations, Inc. (Entergy or the licensee), for operation of the Indian Point Nuclear Generating Unit Nos. 2 and 3 (IP2 and IP3) located in Westchester County, NY. Therefore, as required by 10 CFR 51.21, the NRC performed an environmental assessment. Based on the results of the environmental assessment, the NRC is issuing a finding of no significant impact.

Environmental Assessment

Identification of the Proposed Action

Entergy proposed that the NRC grant exemptions to certain NRC requirements pertaining to the NRC Fire Regulations. The proposed action is detailed in the licensee's applications dated March 6, 2009, as supplemented by letters dated October 1, 2009, May 4, 2010, September 29, 2010, January 19, 2011, February 10, 2011, and May 26, 2011. The licensee's applications and supplemental submissions are accessible electronically from the Agencywide Documents Access and Management System (ADAMS) with Accession Nos. ML090770151, ML090760993, ML092810230, ML092810231, ML101320230, ML101320263, ML102930237, ML102930234, ML110310013, ML110310242, ML110540321, ML110540322, ML11158A196, and ML11158A197.

Regulatory Issue Summary (RIS) 2006-10, “Regulatory Expectations With Appendix R Paragraph III.G.2 Operator Manual Actions,” documents the NRC position on the use of operator manual actions (OMAs) as part of a compliance strategy to meet the requirements of 10 CFR Part 50, Appendix R, Section III.G.2. The NRC requires plants which credit manual actions for 10 CFR part 50, Appendix R, Section III.G.2 compliance to obtain NRC approval for the manual actions using the exemption process in accordance with the requirements of 10 CFR 50.12. In response, the licensee proposed this licensing action which would exempt IP2 and IP3 from certain requirements of 10 CFR part 50, Appendix R, Section III.G.2.

Entergy proposed a number of OMAs in lieu of one of the means specified in Section III.G.2 to ensure a train of equipment used for hot shutdown is available when redundant trains are in the same fire area. Therefore, Entergy requested exemptions from the requirements of 10 CFR 50, Appendix R, Paragraph III.G.2 for IP2 and IP3 to the extent that OMAs are necessary to achieve and maintain hot shutdown for fire areas in which both trains of safe-shutdown cables or equipment are located in the same fire area. The fire areas involved are Fire Areas C, F, H, J, K, P, and YD for IP2 and Fire Areas AFW-6, PAB-2, ETN-4, TBL-5, and YARD-7 for IP3.

Tables 2 through 8 for IP2 and Tables 2 through 9 for IP3 in Attachment 2 of the Entergy letters, dated October 1, 2009, list, on a fire area basis, the specific OMAs proposed for recovery or protection of the credited equipment train for achieving and maintaining hot shutdown conditions in these Appendix R, Paragraph III.G.2, fire areas.

The Need for the Proposed Action

The proposed action is requested to permit the licensee an alternate method from those specified in 10 CFR Part 50, to achieve and maintain hot shutdown conditions in the event of a fire that could disable electrical cables and equipment in the Fire Areas of IP2 and IP3 listed in the licensee's request for exemption.

The criteria for granting specific exemptions from 10 CFR part 50 regulations are specified in 10 CFR 50.12. In accordance with 10 CFR 50.12(a)(1), the NRC is authorized to grant an exemption upon determining that the exemption is authorized by law, will not present an undue risk to the public health and safety, and is consistent with the common defense and security.

Environmental Impacts of the Proposed Action

The NRC has completed its evaluation of the environmental impact of the proposed action. The staff has concluded that such actions would not adversely affect the environment. The proposed action would not result in an increased radiological hazard. There will be no change to the radioactive effluent releases that effect radiation exposures to plant workers and members of the public. No changes will be made to plant structures or the site property. Therefore, no changes or different types of radiological impacts are expected as a result of the proposed exemptions.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Steven's Act are expected. There are no impacts to historical and cultural resources. There would be no impact to socioeconomic resources. Therefore, no changes or different types of non-radiological environmental impacts are expected as a result of the proposed exemptions.

Accordingly, the NRC concludes that there are no significant environmental impacts associated with the proposed action. The details of the staff's safety evaluation will be provided in the exemption, when it is issued.

Environmental Impacts of the Alternatives to the Proposed Action

As alternatives to the proposed action, the NRC staff is considering denial of the proposed action (i.e., the “no-action” alternative) or requiring the licensee to modify the facility to achieve compliance with Appendix R. Denial of the application would result in no change in current environmental impacts. Modification of the facility may result in minor increases in local traffic from contractors hired to work at the facility. This would be considerably fewer than the large number of contractors that are hired for about 30 days every spring to assist with the refueling outages at the facility. The environmental impacts of the proposed action and the alternative actions are similar.

Alternative Use of Resources

The action does not involve the use of any different resources than those previously considered in the Final Environmental Statement for IP2, dated September 30, 1972, or the Final Environmental Statement for IP3, dated February 28, 1975.

Agencies and Persons Consulted

In accordance with its stated policy, on February 8, 2011, the staff consulted with the New York State (NYS) official, at the NYS Energy Research and Development Authority, regarding the environmental impact of the proposed action. The NYS official provided comments by email dated May 11, 2011 (ADAMS Accession No. ML112010063). NYS opposed the granting of the requested exemptions to the licensee. NYS also stated an opinion that the public should be offered an opportunity to comment on the environmental impacts and potential alternatives to the proposed action. The NRC staff notes that there is no legal requirement to solicit public comment on exemption requests, and none has been solicited in this case. This exemption request will not have a significant effect on the environment, as the largest impact would be a small number of additional contractors working at the facility. The remainder of the NYS comments concerned compliance with the NRC's fire protection rules, and will be addressed in a separate letter.

Finding of No Significant Impact

On the basis of the environmental assessment, the NRC concludes that the proposed action will not have a significant effect on the quality of the human environment. Accordingly, the NRC has determined not to prepare an environmental impact statement for the proposed action.

For further details with respect to the proposed action, see the licensee's letters dated March 6, 2009, as supplemented by letters dated October 1, 2009, May 4, 2010, September 29, 2010, January 19, 2011, February 10, 2011, and May 26, 2011. The licensee's applications and supplemental submissions are accessible electronically from the Agencywide Documents Access and Management System (ADAMS) with Accession Nos. ML090770151, ML090760993, ML092810230, ML092810231, ML101320230, ML101320263, ML102930237, ML102930234, ML110310013, ML110310242, ML110540321, ML110540322, ML11158A196, and ML11158A197. Publicly available versions of the documents may be examined, and/or copied for a fee, at the NRC's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-(800) 397-4209 or (301) 415-4737, or send an email to pdr.resource@nrc.gov.

Dated at Rockville, Maryland, this 21st day of November 2011.
For the Nuclear Regulatory Commission.
John P. Boska,
Senior Project Manager, Plant Licensing Branch I-1, Division of Operating Reactor Licensing, Office of Nuclear Reactor Regulation.

[FR Doc. 2011-30901 Filed 11-30-11; 8:45 am]

BILLING CODE 7590-01-P